DEPARTMENT OF THE INTERIOR

Bureau of Land Management

[A2407-014-004-065516; #O2412-014-004-047181.1]

Intent To Prepare the Central Coast Field Office Oil and Gas Supplemental Environmental Impact Statement and Potential Resource Management Plan Amendment, California

AGENCY: Bureau of Land Management, Interior.

ACTION: Notice of intent.

SUMMARY: In compliance with the National Environmental Policy Act (NEPA) of 1969, as amended, and the Federal Land Policy and Management Act (FLPMA) of 1976, as amended, the Bureau of Land Management (BLM) California State Director intends to prepare a supplemental environmental impact statement (EIS) and a potential resource management plan (RMP) amendment for the Central Coast Field Office (CCFO). The supplemental EIS will analyze the impacts of oil and gas leasing and development on BLM-managed public land and mineral estate in the CCFO. Lands withdrawn from mineral entry by law, including national monuments and designated wilderness areas, would remain unavailable for leasing and development. This notice initiates the process to solicit public comments to identify issues and announces a potential RMP amendment.

DATES: The BLM requests that the public submit comments concerning the scope of the analysis, potential alternatives, and identification of relevant information, and studies by July 23, 2025. The BLM will provide additional opportunities for public participation upon publication of the draft supplemental EIS.

ADDRESSES: You may submit comments on issues and planning criteria related to this draft supplemental EIS and potential RMP amendment through the BLM National NEPA Register: https://eplanning.blm.gov/eplanning-ui/admin/project/2037489/510.

Documents pertinent to this proposal may be examined during regular business hours at Bureau of Land Management, Central Coast Field Office, 940 2nd Ave., Marina, CA 93933.

FOR FURTHER INFORMATION CONTACT: Sarah Mathews, Project Manager, Bureau of Land Management, 940 2nd Ave., Marina, CA 93933, telephone: (831) 582-2257, or email: BLM_CA_CCFO_OIL_GAS_SEIS@blm.gov.

Individuals in the United States who are deaf, blind, hard of hearing, or have a speech disability may dial 711 (TTY, TDD, or TeleBraille) to access telecommunications relay services for contacting Ms. Mathews. Individuals outside the United States should use the relay services offered within their country to make international calls to the point-of-contact in the United States.

SUPPLEMENTARY INFORMATION: This document provides notice that the BLM CCFO will prepare, in accordance with FLPMA and NEPA, a draft supplemental EIS and potential RMP amendment for oil and gas leasing and development. The draft supplemental EIS will provide an analysis of the six alternatives outlined in the CCFO proposed RMP amendment and final EIS published in 2019 as agreed to in the 2019 settlement agreement. This document announces the beginning of the scoping process and seeks public input on issues and planning criteria which may inform whether the BLM will amend the current RMP. Based on information gathered during scoping, the BLM may consider additional alternatives.

The planning area is located in Alameda, Contra Costa, Monterey, San Benito, San Mateo, Santa Clara, and Santa Cruz counties, and portions of Fresno, Merced, and San Joaquin counties and encompasses approximately 284,000 acres of public land and an additional 509,000 acres of Federal mineral estate (i.e., split estate).

The scope of this land use planning process does not include addressing the evaluation or designation of areas of critical environmental concern (ACEC) and the BLM is not considering ACEC nominations as part of this process.

Purpose and Need

The purpose of the supplemental EIS is to analyze the environmental effects of oil and gas leasing and development within the planning area and to determine whether changes are needed to the fluid minerals decisions based on new information or changes in circumstances in the CCFO. The need to develop a draft supplemental EIS is established by the settlement agreement in Case No. 3:19-cv-07155-JSC filed with the U.S. District Court for the Northern District of California on December 5, 2022.

Preliminary Alternatives

The draft supplemental EIS will consider the six alternatives outlined in the CCFO proposed RMP amendment and final EIS published in 2019 as agreed to in the 2019 settlement agreement. Potential effects would be based on the CCFO's updated reasonably foreseeable development scenario for oil and gas completed by the BLM in 2015.

The potential for an RMP amendment is dependent upon the alternative selected. The BLM welcomes comments on all preliminary alternatives as well as suggestions for additional alternatives.

Planning Criteria

Preliminary issues for the draft supplemental EIS have been identified by BLM personnel; Federal, State, and local agencies; and other stakeholders. The issues may include but are not limited to: areas of critical environmental concern, fish and wildlife habitats, cultural resources, air quality, water quality, and other public land values; including social and economic conditions.

Preliminary planning criteria include:

1. Only those portions of the existing plan related to land use decisions for management of Federal fluid minerals resources that need to be updated to respond to the issues and management concerns will be reviewed. All other portions of the (existing) RMP for the Southern Diablo Mountain Range and Central Coast of California Record of Decision, approved September 7, 2007, would remain unchanged.

2. The planning process will be completed in compliance with FLPMA and all other applicable laws.

3. The planning process will include a supplemental EIS that will comply with NEPA standards.

4. The scope of analysis will be consistent with the level of analysis in approved plans and in accordance with Bureau-wide standards and program guidance.

5. Public comments will be addressed during the planning process.

You may submit comments on issues and planning criteria in writing to the BLM using one of the methods listed in the ADDRESSES section above by the date listed in the DATES section above.

Summary of Expected Impacts

Within the boundaries of the CCFO, the BLM's previous data showed less than 1 percent of active oil and gas wells are located on Federal mineral estate. Completion of this supplemental EIS could potentially allow the BLM to resume oil and gas leasing within the planning area, which could result in development of up to 37 new oil and gas wells during the next 20 years, as described in the reasonably foreseeable development scenario for the CCFO completed in 2015.

Schedule for the Decision-Making Process

The BLM will provide additional opportunities for public participation consistent with NEPA and land use planning processes. If the BLM prepares an RMP amendment, additional opportunities will include a 90-day comment period on the draft RMP amendment/draft supplemental EIS and a concurrent 30-day public protest period and 60-day Governor's consistency review on the proposed RMP amendment/final supplemental EIS. The draft RMP amendment/draft supplemental EIS is anticipated to be available for public review in spring 2026 and the proposed RMP amendment/final supplemental EIS is anticipated to be available for public protest in spring 2027 with an approved RMP amendment and record of decision in summer 2027. The 14 implementation-level decisions for oil and gas leases in CCFO are subject to appeal to the Interior Board of Land Appeals after the signing of a record of decision for this project.

Public Scoping Process

All public scoping comments must be submitted by email or by mail to the addresses listed under ADDRESSES. The purpose of the public scoping process is to determine relevant issues that will influence the scope of the environmental analysis, including alternatives, if necessary, and guide the planning process.

Responsible Official

The California State Director is the deciding official for this planning effort.

Nature of Decision To Be Made

The nature of the decision to be made will be the State Director's selection of land use planning decisions pursuant to this potential RMP amendment for managing BLM-administered lands under the principles of multiple use and sustained yield in a manner that best addresses the purpose and need.

Additional Information

The BLM will utilize and coordinate the NEPA and land use planning processes for this planning effort to help support compliance with applicable procedural requirements under the Endangered Species Act (16 U.S.C. 1536) and section 106 of the National Historic Preservation Act (54 U.S.C. 306108) as provided in 36 CFR 800.2(d)(3), including public involvement requirements of section 106. The information about historic and cultural resources and threatened and endangered species within the area potentially affected by the proposed plan amendment will assist the BLM in identifying and evaluating impacts to such resources.

The BLM will consult with Indian Tribal Nations on a government-to-government basis in accordance with Executive Order 13175, BLM Manual 1780 and other Departmental policies. Tribal concerns, including impacts on Indian trust assets and potential impacts to cultural resources, will be given due consideration. Federal, State, and local agencies, along with Indian Tribal Nations and other stakeholders that may be interested in or affected by the proposed action that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 43 CFR 46.435 and 43 CFR 1610.2)

Joseph Stout,
State Director.

[FR Doc. 2025-11478 Filed 6-20-25; 8:45 am]

BILLING CODE 4331-15-P